DEPARTMENT OF HEALTH AND HUMAN SERVICES

National Institutes of Health

Government-Owned Inventions; Availability for Licensing

AGENCY: National Institutes of Health, Department of Health and Human Services.

ACTION: Notice.

SUMMARY: The inventions listed below are owned by an agency of the U.S. Government and are available for licensing in the U.S. in accordance with 35 U.S.C. 209 and 37 CFR part 404 to achieve expeditious commercialization of results of federally-funded research and development.

FOR FURTHER INFORMATION CONTACT: Licensing information may be obtained by emailing the indicated licensing contact at the National Heart, Lung, and Blood, Office of Technology Transfer and Development Office of Technology Transfer, 31 Center Drive, Room 4A29, MSC2479, Bethesda, MD 20892-2479; telephone: 301-402-5579. A signed Confidential Disclosure Agreement may be required to receive any unpublished information.

SUPPLEMENTARY INFORMATION: Technology description follows.

Murine Cell Models for Metastatic Squamous Cell Carcinoma Two cell lines isolated from Pam 212 cells (SCC): Pam LY (lymph node metastasis) and Pam LU (lung metastasis) from metastated in vivo growth in mouse. These stably established cell lines exhibited higher potential to metastasize to lymph nodes and lungs, respectively, in mouse models than their parental Pam 212 cells.

Potential Commercial Applications

• Drug discover for squamous cell carcinoma

• Drug discover for squamous cell carcinoma metastated to lung and lymph nodes

Inventors: Zhong Chen and Carter Van Waes (both of NIDCD).

Intellectual Property: HHS Reference No. E-213-2016/0—Research Material.

Licensing Contact: Michael Shmilovich, Esq, CLP; 301-435-5019; shmilovm@mail.nih.gov.

Dated: June 17, 2016.
Michael Shmilovich,
Senior Licensing and Patenting Manager, National Heart, Lung, and Blood Institute, Office of Technology Transfer and Development.

[FR Doc. 2016-14914 Filed 6-23-16; 8:45 am]

BILLING CODE 4140-01-P